DEPARTMENT OF STATE

[Public Notice 8533]

Notice of Meeting of Advisory Committee on International Law

A meeting of the Department of State's Advisory Committee on International Law will take place on Friday, December 13, 2013, from 9:00 a.m. to approximately 2:30 p.m. at the George Washington University Law School (Frederick Lawrence Student Conference Center), 2000 H Street NW., Washington, DC. Acting Legal Adviser Mary McLeod will chair the meeting, which will be open to the public up to the capacity of the meeting room.

Members of the public who wish to attend should contact the Office of the Legal Adviser by December 9 (lermanjb@state.gov or 202-776-8442) mailto:KillTP@state.gov and provide their name, professional affiliation, address, and phone number. A valid photo ID is required for admission to the meeting. Members of the public who require reasonable accommodations should make their requests by December 6. Requests received after that time will be considered but might not be possible to accommodate.

Dated: November 4, 2013.
Jonas Lerman,
Attorney-Adviser, Office of the Legal Adviser, Executive Director, Advisory Committee on International Law, United States Department of State.

[FR Doc. 2013-28232 Filed 11-22-13; 8:45 am]

BILLING CODE 4710-08-P